DEPARTMENT OF TRANSPORTATION

Federal Highway Administration

[FHWA Docket No. FHWA-1999-5381]

Implementation Information for Ferry Boat Discretionary Program Funds

AGENCY: Federal Highway Administration (FHWA), DOT.

ACTION: Notice; issuance of final selection criteria for FY 2001 and beyond.

SUMMARY: This document provides implementation information on the Ferry Boat Discretionary (FBD) program for fiscal year 2001 and beyond. A memorandum with this information will be issued each year of the program to division offices soliciting candidate projects from State transportation agencies for FBD program funding.

FOR FURTHER INFORMATION CONTACT: Mr. Jack Wasley, Office of Program Administration, (202) 366-4658; or Mr. Harold Aikens, Office of the Chief Counsel, (202) 366-0764; Federal Highway Administration, 400 Seventh Street SW., Washington D.C. 20590. Office hours are from 7:45 a.m. to 4:15 p.m., e.t., Monday through Friday, except Federal holidays.

SUPPLEMENTARY INFORMATION:

Electronic Access

Internet users may access all comments received by the U.S. Dockets, Room PL-401, by using the universal resource locator (URL) http://dms.dot.gov. It is available 24 hours each day, 365 days each year. Please follow the instructions online for more information and help.

An electronic copy of this document may be downloaded by using a computer, modem and suitable communications software from the Government Printing Office's Electronic Bulletin Board Service at (202) 512-1661. Internet users may reach the Office of the Federal Register's home page at http://www.nara.gov/fedreg and the Government Printing Office's database at http://www.access.gpo.gov/nara.

The solicitation memorandum will be available each year of the program on the FHWA web site at: http://www.fhwa.dot.gov/discretionary.

Background

On April 26, 1999, at 64 FR 20350, the FHWA solicited comments on the selection criteria to be used by the FHWA for evaluating candidate projects for the FBD program for FY 2001 and beyond. These are the same general selection criteria that the FHWA has used for several years to evaluate candidates for this discretionary program.

Discussion of Comments

No comments or views were received in response to this invitation to submit written comments to the selection criteria to be used by the FHWA in docket number FHWA-1999-5381 by June 25, 1999.

The FHWA, therefore, will continue to use these same basic selection criteria for FY 2001 and beyond for the FBD discretionary program. A selection criterion may be added for an individual year that reflects a special emphasis area, but for the most part the selection criteria will remained unchanged.

Authority: 23 U.S.C. 129(c) and 315; and 49 CFR 1.48.

Issued on: April 3, 2000.
Kenneth R. Wykle,
Federal Highway Administrator.

The text of the FHWA implementation information to accompany solicitation memoranda for FBD projects for FY 2001 and beyond follows:

Ferry Boat Discretionary Program: Program Information

Background

The Ferry Boat Discretionary (FBD) Program, which provides a special funding category for the construction of ferry boats and ferry terminal facilities, was created by Section 1064 of the Intermodal Surface Transportation Efficiency Act of 1991 (ISTEA) (Public Law 102-240). Section 1207 of the Transportation Equity Act for the 21st Century (TEA-21) (Public Law 105-178) reauthorized the FBD funding category through FY 2003.

Statutory References

23 U.S.C. 129(c); sec 1064, Pub. L. 102-240, 105 Stat. 1914 (1991)(ISTEA); sec. 1207, Pub. L. 105-178, 112 Stat. 107 (1998) (TEA-21).

Funding
[In millions of dollars]
Fiscal Year | 1998 | 1999 | 2000 | 2001 | 2002 | 2003
Competitive | 30 | 18 | 18 | 18 | 18 | 18
NHS Set-aside | 20 | 20 | 20 | 20 | 20 | 20

The TEA-21 provides $30 million in fiscal year 1998 and $38 million in each of fiscal years 1999 through 2003 for the construction of ferry boats and ferry terminals in accordance with 23 U.S.C. 129(c). The TEA-21 requires that $20 million from each of fiscal years 1999 through 2003 be set-aside for marine highway systems that are part of the National Highway System for use by the States of Alaska ($10 million), New Jersey ($5 million), and Washington ($5 million). As a result, for each of fiscal years 1999 through 2003, the amount of FBD funding available for open competition among all States is $18 million with a non-competitive amount of $20 million set-aside for Alaska, New Jersey, and Washington.

The $18 million available for open competition is also impacted by any obligation limitation imposed on the Federal-aid highway program under the provisions of TEA-21 section 1102(f), Redistribution of Certain Authorized Funds. Under this provision, any funds authorized for the program for the fiscal year, which are not available for obligation due to the imposition of an obligation limitation, are not allocated for the FBD program, but are redistributed to the States by formula as STP funds.

After these reductions, it is expected that approximately $14 million will be available for candidate projects each of fiscal years 2000 through 2003. This available funding may also increase or decrease each year depending on the obligation limitation calculation and on the estimated receipts to the Highway Trust Fund.

Federal Share

In accordance with section 1064(b) of the ISTEA, the Federal share of the costs for any project eligible under this program is 80 percent.

Obligation Limitation

The FBD discretionary funds are subject to obligation limitation; however, 100 percent obligation authority is normally provided with the allocation of funds for the selected projects. The obligation limitation reduces the available funding for the program under the provisions of the TEA-21 section 1102(f) discussed above.

For FY 1999, obligation of the FBD funds was controlled by a special requirement included in the FY 1999 Omnibus Appropriations Act (Public Law 105-277). The Act limited the obligation of FBD funds during FY 1999 to $38 million. Consequently, there was not enough obligation authority to cover both fiscal years 1998 and 1999 funding allocated to the States. Therefore, distribution of the FY 1999 obligation authority was on an “as needed” basis during FY 1999.

For FY 2000, a proportional share of obligation authority accompanied allocated funds.

Eligibility

As specified in section 1064(b) of the ISTEA, this program is for the construction of ferry boats and ferry terminal facilities in accordance with 23 U.S.C. 129. Proposals should meet the basic eligibility criteria in 23 U.S.C. 129(c).

Competitive FBD funds are available for improvements to ferry boats or ferry boat terminals where:

• The ferry facility is providing a link on a public road (other than Interstate) or the ferry facility is providing passenger only ferry service.

• The ferry and/or ferry terminal to be constructed or improved is either publicly owned, publicly operated, or a public authority has majority ownership interest where it is demonstrated that the ferry operation provides substantial public benefits.

• The ferry does not operate in international water except for Hawaii, Puerto Rico, Alaska, and for ferries between a State and Canada.

The set-aside discretionary funds for marine highway systems for use by the States of Alaska, New Jersey, and Washington are available for the construction or refurbishing of ferry boats and ferry terminals and their approaches that are part of the NHS. In general, a proposed project must meet the eligibility criteria set forth in 23 U.S.C. 129(b) and (c), with the following requirements specifically applying to location of the projects and the type of activity eligible for funding:

• For a ferry facility that provides a direct link on the NHS, both the ferry boat (must transport four wheel vehicles) and the ferry terminals, including approaches, are eligible for funding.

• For a ferry facility that lies at the end of an approved connector to the NHS, only the ferry terminal (can serve either vehicle or passengers) and approach is eligible for funding. The ferry boats serving the ferry terminal are not eligible for funding.

Selection Criteria

Several criteria are used to evaluate the submitted candidates for selection for the competitive portion of the FBD program. Although there are no statutory criteria and FHWA has not established regulatory criteria for selection of FBD projects, the following criteria are considered in the evaluation of candidates for this program:

• Expeditious completion of project—Consideration is given to requests that will expedite the completion of a viable project. This is a project's ability to expeditiously complete usable facilities within the limited funding amounts available.

• Leveraging of private or other public funding—Because the annual requests for funding far exceed the available FBD funds, commitment of other funding sources to complement the requested FBD funding is an important factor.

• Amount of FBD funding—The requested amount of funding is a consideration. Realizing the historically high demand of funding under this program, modest sized requests for funding (generally less than $2 million) to allow more States to receive funding under this program are given added consideration.

• State priorities—For States submitting more than one project, consideration is given to the individual States priorities.

• National geographic distribution of funding within the FBD program—Consideration is given to selecting projects over time among all the States competing for funding.

Because the concept of equity was important in the development of TEA-21, project selection will also consider national geographic distribution among all of the discretionary programs as well as congressional direction or guidance provided on specific projects or programs.

Solicitation Procedure

Each year, usually around March, a memorandum is sent from the FHWA Headquarters Office of Program Administration to the FHWA division offices requesting the submission of candidate projects for the following fiscal year's funding. The FHWA division offices provide this solicitation request to the State transportation departments, who are the only agencies that can submit candidates. The State transportation departments coordinate with local agencies within their respective States in order to develop viable candidate projects. The State transportation departments submit the candidate applications to the FHWA division offices, who send them in to the Office of Program Administration. Candidate projects are due in FHWA Headquarters on a specific date in July (usually around the middle of July).

The specific timetable for the solicitation process for any particular fiscal year is provided in the solicitation memorandum.

The candidate project applications are reviewed and evaluated by the Office of Program Administration and an allocation plan is prepared for presentation of the candidate projects to the Office of the Federal Highway Administrator, where the final selection of projects for funding is made. The announcement of the selected projects and the allocation of funds is usually accomplished by the middle of November.

Set-aside FBD funds are allocated directly to the three named States with no solicitation.

Submission Requirements

Only State transportation departments may submit applications for funding under this program. Although there is not a prescribed format for a project submission, the following information must be included to properly evaluate the candidate projects. The applications must be submitted electronically in either Word Perfect or MS Word format. With the exception of the project area map, all of the following must be included to consider the application complete. Those applications that do not include these items are considered incomplete and will be returned.

1. State(s) in which the project is located. If more than one State, indicate which State is the applicant.

2. County(ies) in which the project is located.

3. U.S. Congressional District No.(s) in which the project is located.

4. U.S. Congressional Member's Name(s) for each District.

5. Facility or Project Name commonly used to describe the facility or project.

6. Service Termini and Ports—Describe the ferry boat operation including the name of water crossing. A statement must be included for ferry boat operations carrying motorized vehicles, describing the link in the roadway system. Clearly identify any “passenger only” ferry service, and explain how the ferry service is linked to public transportation or is part of a transit system. Also, for each project indicate if the project is part of an existing link or service, or if it is new service. Also identify if the ferry operates in domestic, foreign, or international waters.

7. Ownership/Operation—Specify which of the following apply (a, b, or c):

(a) The boat or terminal is publicly-owned. The term “publicly-owned” means that the title for the boat or terminal must be vested in a Federal, State, county, town, or township, Indian tribe, municipal or other local government or instrumentality.

(b) The boat or terminal is publicly-operated. The term “publicly-operated” means that a public entity operates the boat or terminal.

(c) The boat or terminal is “majority publicly-owned” (as opposed to public owned). This means that more than 50 percent of the ownership is vested in a public entity. If so, does it provide substantial public benefits? Documentation of substantial public benefits, concurred in by the division office, is required for ferry facilities that are in majority public ownership.

8. Current and Future Traffic—Provide a general description of the type and nature of traffic, both current and future (projected) average daily traffic and/or average daily passenger volumes, on the ferry route if available. If the ferry links public roads or is a link on a highway route, provide the functional classification of the public road or route that the project is located. The general description could include information on year round or seasonal service; commuter, recreational or visitor ridership; traffic generators and attractions.

9. Proposed Work—Describe the project work that is to be completed under this particular request, and whether this is a complete project or part of a larger project.

10. Amount of Federal FBD Discretionary Funds Requested—Indicate the total cost of the proposed work along with the amount of FBD funds being requested for FY 2001 (the maximum Federal share for this program is 80 percent). The State may request partial funding (less than the 80 percent maximum), committing a larger portion of State or local funds. If the State is willing to accept partial funding of the request, that should be indicated. Partial funding along with the commitment of other funds (see item 11 below) will be used to determine leveraging of funds, and allow funding to more projects, since the requests far exceed the funding available.

11. Commitment of Other Funds—Indicate the amounts and sources of any private or other public funding being provided as part of this project. Only indicate those amounts of funding that are firm and documented commitments from the entity controlling the funds.

12. Previous FBD Discretionary Funding—Indicate the amount and Federal fiscal year of any previous FBD discretionary funds received for this project, terminals or ferry boats operating on this route or transit system. Only include previous FBD discretionary funds, not other funding sources.

13. Future Funding Needs—Indicate the estimated future funding needs for the ferry boat operation, including vessels and terminals, if known. Also, provide estimated time schedules for implementing future projects.

14. Project Purpose and Benefits—Each State's request for ferry boat discretionary funds must describe the project benefits and purpose. This information should not be lengthy, it should be in short and concise (three to five) statements. Layman's language should be used to the extent possible so as to be understood by a reader that is not closely familiar with the highway and ferry boat operations. This information will also be used for briefings and bulletins.

15. Project Area Map—A readable location/vicinity map showing the ferry route and terminal connections is helpful if available. The map may be submitted electronically along with the candidate application or separately as a hard copy (black and white, letter or legal paper size).

State Transportation Agency Responsibilities

1. Coordinate with State and local agencies within the State to develop viable candidate projects.

2. Ensure that the applications for candidate projects meet the submission requirements outlined above.

3. Establish priorities. If the State submits more than one candidate project, we request that the State rank the projects according to the State's overall needs and priorities.

4. Submit the applications to the local FHWA division office, in advance of the established FHWA Headquarters deadline (contained in the FHWA Headquarter's solicitation memorandum). The Division's request for candidate projects should allow enough time to meet the responsibilities outlined below and any additional coordination as mutually agreed upon.

FHWA Division Office Responsibilities

1. Provide the solicitation memorandum and this program information to the State transportation agency.

2. Request candidate projects be submitted by the State to the FHWA division office to meet submission deadline established in the solicitation memorandum.

3. Review all candidate applications submitted by the State prior to sending them to FHWA Headquarters to ensure that they are eligible, complete and meet the submission requirements.

4. Submit the candidate applications to FHWA Headquarters by the established submission deadline.

FHWA Headquarters Program Office Responsibilities

1. Solicit candidates from the States through annual solicitation memorandum.

2. Review candidate project submissions and compile program and project information for preparation of allocation plan.

3. Submit allocation plan to the Office of the Federal Highway Administrator for use in making final project selections.

4. Allocate funds for the selected projects.

FHWA Headquarters Program Office Contact

Mr. Jack Wasley, Highway Engineer, Office of Program Administration, Phone: (202) 366-4658, Fax: (202) 366-3988, E-mail: jack.wasley@fhwa.dot.gov.

[FR Doc. 00-9080 Filed 4-11-00; 8:45 am]

BILLING CODE 4910-22-P